ENVIRONMENTAL PROTECTION AGENCY

[FRL-8934-7]

Public Notice of Draft NPDES General Permits for Wastewater Lagoon Systems Located in Colorado, Montana, North Dakota, South Dakota, Utah and Wyoming

AGENCY: Environmental Protection Agency (EPA).

ACTION: Notice of proposed issuance of NPDES general permits.

SUMMARY: EPA Region 8 is hereby giving notice of its proposed determination to issue six National Pollutant Discharge Elimination System (NPDES) general permits for wastewater lagoon systems that are located in Indian country in Region 8 and that are treating primarily domestic wastewater. The general permits are grouped geographically by State, with the permit coverage being for specified Indian reservations in the State; any land held in trust by the United States for an Indian tribe; and any other areas which are Indian country within the meaning of 18 U.S.C. 1151. The permits for the States of Montana, North Dakota, South Dakota, Utah, and Wyoming are being reissued and replace permits that were issued in 2004. Those permits expire August 16, 2009. The permit for the State of Colorado is being issued for the first time.

The use of wastewater lagoon systems is the most common method of treating municipal wastewater in Indian country in CO, MT, ND, SD, UT and WY. Wastewater lagoon systems are also used to treat domestic wastewater from isolated housing developments, schools, camps, missions, and similar sources of domestic wastewater that are not connected to a municipal sanitary sewer system and do not use septic tank systems. Region 8 wants to continue using general permits instead of individual permits for permitting the discharges from such facilities in order to reduce the Region's administrative burden of issuing separate individual permits. The administrative burden for the regulated sources is expected to be about the same under the general permits as with individual permits (however it will be much quicker to obtain permit coverage with general permits than with individual permits). The discharge requirements would essentially be the same with an individual permit or under the general permit.

DATES: Public comments on this proposal must be received, in writing, on or before August 24, 2009.

ADDRESSES: Public comments should be sent to: Ellen Bonner (8P-W-WW); U.S. Environmental Protection Agency, Region 8; 1595 Wynkoop St.; Denver, CO 80202-1129.

FOR FURTHER INFORMATION CONTACT: The draft permit and the fact sheet for the draft permit are available for download at http://www.epa.gov/region8/water/wastewater/download. Additional information may be obtained upon request by calling VelRey Lozano at (303) 312-6128 (or e-mail lozano.velrey@epa.gov) or by writing to the address listed above. The complete application and related documents are available by appointment for review and reproduction at the address listed above during the hours of 10 a.m. to 4 p.m. Monday through Friday, Federal holidays excluded. To make an appointment to look at the documents call Ellen Bonner at 303-312-6371 or VelRey Lozano at 303-312-6128.

SUPPLEMENTARY INFORMATION: It is proposed that general permits be issued for discharges from wastewater lagoon systems located in the following areas:

Colorado: COG589### This permit covers the Southern Ute Reservation and the Ute Mountain Reservation, including those portions of the Reservation located in New Mexico and Utah; any land within the State of Colorado held in trust by the United States for an Indian tribe; and any other areas within the State of Colorado which are Indian country within the meaning of 18 U.S.C. 1151.

Montana: MTG589### This permit covers the Blackfeet Indian Reservation of Montana; the Crow Indian Reservation; the Flathead Reservation; the Fort Belknap Reservation of Montana; the Fort Peck Indian Reservation; the Northern Cheyenne Indian Reservation; the Rocky Boy's Reservation; any land within the State of Montana held in trust by the United States for an Indian tribe; and any other areas within the State of Montana which are Indian country within the meaning of 18 U.S.C. 1151.

North Dakota: NDG589### This permit covers the Fort Berthold Reservation; the Spirit Lake Indian Reservation; the Standing Rock Sioux Reservation; the Turtle Mountain Reservation; any land within the State of North Dakota held in trust by the United States for an Indian tribe; and any other areas within the State of North Dakota which are Indian country within the meaning of 18 U.S.C. 1151.

This permit includes that portion of the Standing Rock Sioux Reservation and associated Indian country located within the State of South Dakota. It does not include any land held in trust by the United States for the Sisseton-Wahpeton Oyate or any other Indian country associated with that Tribe, which is covered under general permit SDG589###.

South Dakota: SDG589### This permit covers the Cheyenne River Reservation; Crow Creek Reservation; the Flandreau Santee Sioux Indian Reservation; the Lower Brule Reservation; the Pine Ridge Reservation (including the entire Reservation, which is located in both South Dakota and Nebraska); the Rosebud Sioux Indian Reservation; the Yankton Sioux Reservation; any land within the State of South Dakota held in trust by the United States for an Indian tribe; and any other areas within the State of South Dakota which are Indian country within the meaning of 18 U.S.C. 1151.

This permit includes any land in the State of North Dakota that is held in trust by the United States for the Sisseton-Wahpeton Oyate or any other Indian country associated with that Tribe. It does not include the Standing Rock Sioux Reservation or any associated Indian country, which is covered under general permit NDG589###.

Utah: UTG589### This permit covers the Northwestern Band of Shoshoni Nation of Utah Reservation (Washakie); the Paiute Indian Tribe of Utah Reservation; the Skull Valley Indian Reservation; Indian country lands within the Uintah & Ouray Reservation; any land within the State of Utah held in trust by the United States for an Indian tribe; and any other areas within the State of Utah which are Indian country within the meaning of 18 U.S.C. 1151.

It does not include any portions of the Navajo Nation or the Goshute Reservation, or any land held in trust by the United States for an Indian tribe that is associated with those Reservations, or any other areas which are Indian country within the meaning of 18 U.S.C. 1151 that are associated with those Reservations.

Wyoming: WYG589### This permit covers the Wind River Reservation; any land within the State of Wyoming held in trust by the United States for an Indian tribe; and any other areas within the State of Wyoming which are Indian country within the meaning of 18 U.S.C. 1151.

Coverage under the general permits will be limited to lagoon systems treating primarily domestic wastewater and will include the following three categories: (1) Lagoons where no permission is required before starting to discharge; (2) lagoons where permission is required before starting to discharge; and (3) lagoons that are required to have no discharge. The effluent limitations for lagoons coming under categories 1 and 2 are based on the Federal Secondary Treatment Regulation (40 CFR Part 133) and best professional judgement (BPJ). There are provisions in the general permits for adjusting the effluent limitations on total suspended solids (TSS) and pH in accordance with the provisions of the Secondary Treatment Regulation. If more stringent and/or additional effluent limitations are considered necessary to comply with applicable water quality standards, etc., those limitations may be imposed by written notification to the permittee. Lagoon systems under category 3 are required to have no discharge except in accordance with the bypass provisions of the permit. Self-monitoring requirements and routine inspection requirements are included in the permits. The permits do not authorize the discharge of wastewater from land application sites, but they do require that the land application of wastewater from the lagoon systems be done in accordance with a written operational plan for the land application of the wastewater. The objectives of the operational plan are to minimize the potential for the discharge of wastewater from the land application site and to avoid applying excessive amounts of nitrogen to the land application site.

With the exception of the Flathead Indian Reservation, the Fort Peck Indian Reservation, Northern Cheyenne Indian Reservation, and the Ute Mountain Indian Reservation, where the Tribes have Clean Water Act section 401(a)(1) certification authority, EPA intends to certify that the permits comply with the applicable provisions of the Clean Water Act as long as the permittees comply with all permit conditions. The permits will be issued for a period of five years, with the permit effective date and expiration date determined at the time of issuance.

Other Legal Requirements

Economic Impact (Executive Order 12866): EPA has determined that the issuance of this general permit is not a “significant regulatory action” under the terms of Executive Order 12866 (58 FR 51735 (October 4, 1993)) and is therefore not subject to formal OMB review prior to proposal.

Paperwork Reduction Act: EPA has reviewed the requirements imposed on regulated facilities in these proposed general permits under the Paperwork Reduction Act of 1980, 44 U.S.C. 501, et seq. The information collection requirements of these permits have already been approved by the Office of Management and Budget in submissions made for the NPDES permit program under the provisions of the Clean Water Act.

Unfunded Mandates Reform Act: Section 201 of the Unfunded Mandates Reform Act (UMRA), Public Law 104-4, generally requires Federal agencies to assess the effects of their “regulatory actions” defined to be the same as “rules” subject to the Regulatory Flexibility Act (RFA)) on tribal, state, local governments and the private sector. Since the permit proposed today is an adjudication, it is not subject to the RFA and is therefore not subject to the requirements of the UMRA.

Authority: Clean Water Act, 33 U.S.C. 1251, et seq.

Dated: July 17, 2009.
Debra H. Thomas,
Acting Assistant Regional Administrator, Office of Partnerships and Regulatory Assistance.

[FR Doc. E9-17708 Filed 7-23-09; 8:45 am]

BILLING CODE 6560-50-P